DEPARTMENT OF EDUCATION

[CFDA No.: 84.294A]

Elementary School Foreign Language Incentive Program; Notice Inviting Applications for New Awards for Fiscal Year (FY) 2002

Note to Applicants: This notice is a complete application package. Together with the statute authorizing the program and the Education Department General Administrative Regulations (EDGAR), this notice contains all of the information, application forms, and instructions you need to apply for an award under this program.

Purpose of Program: This program provides incentive payments for each public elementary school that offers its students a program designed to lead to communicative competency in a foreign language.

Eligible Applicants: Public elementary schools. The Secretary strongly recommends that local educational agencies (LEAs) apply on behalf of schools within their respective jurisdictions.

Deadline for Transmittal of Applications: June 3, 2002.

Deadline for Intergovernmental Review: August 1, 2002.

Estimated Available Funds: $6,000,000.

Note: The Department is not bound by any estimates in this notice.

Project Period: 12 months.

Applicable Regulations: The Education Department General Administrative Regulations (EDGAR) in 34 CFR parts 77, 79, 80, 81, 82, 85, 86, 97, 98 and 99.

Description of Program

To be eligible for an incentive payment under this program, a public elementary school must meet the requirements of section 5494, subpart 9 of part D of title V of the Elementary and Secondary Education Act of 1965, as amended by the No Child Left Behind Act of 2001 (Pub. L. 107-110). The Act considers a program to be designed to lead to communicative competency in a foreign language if the program is comparable to one that provides not less than 45 minutes of instruction in a foreign language for not fewer than four days per week throughout the academic year.

The amount of our incentive payment to a public elementary school is based on the number of students participating in the school's program designed to lead to communicative competency in a foreign language.

The program must have a primary focus on foreign language instruction. The Secretary does not award incentive payments for programs that teach Native American languages.

An application must include the following:

(1) Information that establishes the eligibility of the foreign language program at each of the elementary schools included in the application. Specifically, you must describe and document the 2001-2002 program methodology and time schedule.

(2) The number of students participating in the program at each of the elementary schools included in the application. To provide for the fair distribution of funds available under this program, and for uniform counts across schools, the Secretary requests that a public elementary school indicate the number of students that were participating, as of the 2001-2002 academic year, in its program that leads to communicative competency in a foreign language.

If you receive a grant, we request that each school provide a report on the impact of the incentive funding on the foreign language instruction program at the end of the school year for which you received funding.

Intergovernmental Review of Federal Programs

This program is subject to Executive Order 12372 (Intergovernmental Review of Federal Programs) and the regulations in 34 CFR part 79.

One of the objectives of the Executive order is to foster an intergovernmental partnership and a strengthened federalism. The Executive order relies on processes developed by State and local governments for coordination and review of proposed Federal financial assistance.

If you are an applicant, you must contact the appropriate State Single Point of Contact (SPOC) to find out about, and to comply with, the State's process under Executive Order 12372. If you propose to perform activities in more than one State, you should immediately contact the SPOC for each of those States and follow the procedure established in each State under the Executive order. If you want to know the name and address of any SPOC, see the latest official SPOC list on the Web site of the Office of Management and Budget at the following address: http://www.whitehouse.gov/omb/grants/spoc.html.

In States that have not established a process or chosen a program for review, State, areawide, regional, and local entities may submit comments directly to the Department.

Any State Process Recommendation and other comments submitted by a State Single Point of Contact and any comments from State, areawide, regional, and local entities must be mailed or hand-delivered by the date indicated in the actual application notice to the following address: The Secretary, E.O. 12372—CFDA# 84.294A, U.S. Department of Education, room 7E200, 400 Maryland Avenue, SW., Washington, DC 20202-0125.

We will determine proof of mailing on the same basis as applications (see 34 CFR 75.102). Recommendations or comments may be hand-delivered until 4:30 p.m. (Washington, DC time) on the date indicated in this notice.

Please note that this address is not the same address as the one to which an applicant submits its completed application. Do not send applications to the above address.

Application Instructions and Forms

The Appendix to this notice contains forms and instructions, a statement regarding estimated public reporting burden, a notice to applicants regarding compliance with section 427 of the General Education Provisions Act, and various assurances and certifications. Please organize the parts and additional materials in the following order:

• Application for Federal Assistance (ED 424)(Exp. 11/30/2004) and instructions and definitions.

• Protection of Human Subjects in Research (Attachment to ED 424).

• Application Narrative.

• School and Student Data Report Form.

• Assurances—Non-Construction Programs (Standard Form 424B) (Rev. 7-97).

• Certifications regarding Lobbying; Debarment, Suspension, and Other Responsibility Matters; and Drug-Free Workplace Requirements (ED 80-0013, 12/98) and instructions.

• Certification Regarding Debarment, Suspension, Ineligibility and Voluntary Exclusion: Lower Tier Covered Transactions (ED 80-0014, 9/90) and instructions. (Note: ED 80-0014 is intended for the use of grantees and should not be transmitted to the Department.)

• Disclosure of Lobbying Activities (Standard Form LLL (Rev. 7-97)) if applicable and instructions.

• Notice to All Applicants concerning the Department of Education's General Education Provisions Act (GEPA) including examples of required response.

• Program Non-Regulatory Guidance.

You may submit information on a photocopy of the application forms, the assurances, and the certifications. However, you must submit one original signed application, including ink signatures on all forms and assurances and two copies of the application. Please mark each application as original or copy. We will not award a grant unless we have received a completed application form.

Individuals with disabilities may obtain this document in an alternative format (e.g., Braille, large print, audiotape, or computer diskette) on request to either of the program contact persons listed under FOR FURTHER INFORMATION CONTACT.

However, the Department is not able to reproduce in an alternative format the standard forms included in this application notice.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free at 1-888-293-6498; or in the Washington, DC area at (202) 512-1530.

Note: The official version of this document is the document published in the Federal Register. Free Internet access to the official edition of the Federal Register and the Code of Federal Regulations is available on GPO Access at: http://www.access.gpo.gov/nara/index.html.

FOR FURTHER INFORMATION CONTACT: You may contact either of the following: Rebecca Richey, U.S. Department of Education, 400 Maryland Avenue, SW, room 5617, Switzer Building, Washington, DC 20202-6510. Telephone: (202) 205-9717 or via Internet: rebecca.richey@ed.gov.

Ana Garcia, U.S. Department of Education, 400 Maryland Avenue, SW, room 5632, Switzer Building, Washington, DC 20202-6510. Telephone: (202) 205-8077 or via Internet: ana.garcia@ed.gov.

Itzetht Testa-Salcedo, U.S. Department of Education, 400 Maryland Avenue, SW, room 5629, Switzer Building, Washington, DC 20202-6510. Telephone: (202) 205-8726 or via Internet: itzetht.testa-salcedo@ed.gov.

If you use a telecommunications device for the deaf (TDD), you may call the Federal Information Relay Service (FIRS) at 1-800-877-8339.

Instructions for Transmitting Applications

If you want to apply for a grant and be considered for funding, you must meet the following deadline requirements:

(a) If You Send Your Application by Mail

You must mail the original and two copies on or before the deadline date. Mail your application to:

U.S. Department of Education, Application Control Center, Attention: (CFDA# (84.294A), 7th and D Streets, SW, Room 3671, Regional Office Building 3, Washington, DC 20202-4725.

You must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

If you mail an application through the U.S. Postal Service, we do not accept either of the following as proof of mailing:

(1) A private metered postmark.

(2) A mail receipt that is not dated by the U.S. Postal Service.

Note: Due to recent disruption to normal mail delivery, the Department encourages you to consider using an alternative delivery method (for example, a commercial carrier, such as Federal Express or United Parcel Service; U. S. Postal Service Express Mail; or a courier service) to transmit your application for this competition. If you use an alternative delivery method, please obtain the appropriate proof of mailing under this section (a) “If You Send Your Application by Mail,” then follow the instructions in section (b) “If You Deliver Your Application by Hand.”

(b) If You Deliver Your Application by Hand

You or your courier must hand deliver the original and two copies by 4:30 p.m. (Washington, DC time) on or before the deadline date. Deliver your application to:

U.S. Department of Education, Application Control Center, Attention: (CFDA #294A), 7th and D Streets, SW., Room 3671, Regional Office Building 3, Washington, DC 20202-4725.

The Application Control Center accepts application deliveries daily between 8 a.m. and 4:30 p.m. (Washington, DC time), except Saturdays, Sundays and Federal holidays. The Center accepts application deliveries through the D Street entrance only. A person delivering an application must show identification to enter the building.

Notes

(1) The U.S. Postal Service does not uniformly provide a dated postmark. Before relying on this method, you should check with your local post office.

(2) If you send your application by mail or if you or your courier delivers it by hand, the Application Control Center will mail a Grant Application Receipt Acknowledgment to you. If you do not receive the notification of application receipt within 15 days from the date of mailing the application, you should call the U. S. Department of Education Application Control Center at (202) 708-9493.

(3) If your application is late, we will notify you that we will not consider the application.

(4) You must indicate on the envelope and—if not provided by the Department—in Item 4 of the Application for Federal Education Assistance (ED 424 (exp. 11/30/2004)) the CFDA number—and suffix letter, if any—of the competition under which you are submitting your application.

Program Authority: 20 U.S.C. 7259c.

Dated: April 25, 2002.
Maria Hernandez Ferrier,
Director, Office of English Language Acquisition, Language Enhancement, and Academic Achievement for Limited English Proficient Students.

Appendix

Instructions for Estimated Public Reporting Burden

According to the Paperwork Reduction Act of 1995, you are not required to respond to a collection of information unless it displays a valid OMB control number. The valid OMB control number for this information collection is 1885-0531. Expiration date: 9/30/2002. We estimate the time required to complete this information collection to average 40 hours per response, including the time to review instructions, search existing data resources, gather the data needed, and complete and review the collection of information. If you have any comments concerning the accuracy of the time estimate or suggestions for improving this form, please write to: U.S. Department of Education, Washington, DC 20202-4651.

If you have comments or concerns regarding the status of your individual submission of this form, write directly to: Office of English Language Acquisition, U.S. Department of Education, 400 Maryland Avenue, SW, Room 5607, Switzer Building, Washington, DC 20202-6510.

Instructions for Application Narrative

Before preparing the Application Narrative you should read carefully the description of the program.

The narrative should provide sufficient information for the Secretary to determine that the foreign language program at each of the public elementary schools included in the application meets the requirements in section 5494 of the Elementary and Secondary Education Act (see the “Description of Program” in this notice).

The Secretary strongly suggests that the applicant submit charts or other visuals to provide information on the foreign language program at each of the public elementary schools included in the application.

Note: The section on Page Limit elsewhere in this application notice applies to your application.

Suggested Page Limit

You should limit the narrative to the equivalent of no more than 5 pages, using the following standards:

(1) A “page” is 8.5″ × 11″, on one side only, with 1″ margins at the top, bottom, and both sides.

(2) You should double space (no more than three lines per vertical inch) all text in the application narrative, including titles, headings, footnotes, quotations, references, and captions, as well as all text in charts, tables, figures, and graphs.

(3) Use a font that is either 12-point or larger or no smaller than 10 pitch (characters per inch).

The suggested page limit does not apply to the application for Federal Education Assistance Form (ED 424); the other application forms and attachments to those forms; the assurances and certification.

Checklist for Applicants

Use the following checklist to verify that all necessary items are addressed in your application:

Application for Federal Assistance (ED 424)

Application narrative—suggested not to exceed 5 double-spaced pages (see description of program, application narrative instructions and non-regulatory guidance)

School and Student Data Report

Assurances—Non-Construction Programs (SF 424B)

Certifications Regarding Lobbying; Debarment, Suspension and Other Responsibility Matters; and Drug Free Workplace Requirements (ED 80-0013)

Certification Regarding Debarment, Suspension, Ineligibility and Voluntary Exclusion—Lower Tier Covered Transactions (ED 80-0014) Not transmitted to Department.

Disclosure of Lobbying Activities (SF-LLL)

General Education Provisions Act (GEPA) response

Copy of letter to Single State Point of Contact (SPOC) if applicable

Elementary School Foreign Language Incentive Program, Non-Regulatory Guidance (Questions and Answers)

Q. What is the definition of an “elementary school”?

A. The term elementary school means a non-profit institutional day or residential school, including a public elementary charter school, that provides elementary education, as determined under State law. The definition of this term is in section 9101 of the Elementary and Secondary Education Act, as amended by the No Child Left Behind Act of 2001.

Q. Are public and private elementary schools eligible for the Foreign Language Incentive Program?

A. Eligible entities are public elementary schools. Private schools cannot apply. It is strongly recommended that local education agencies (school districts) apply on behalf of elementary schools within their jurisdiction. Each elementary school included in the application must have a program leading to communicative competency in a foreign language.

Q. What is a program of foreign language instruction designed to lead to “communicative competency”?

A. A foreign language program leading to communicative competency is comparable to a program providing at least 45 minutes of instruction not fewer than 4 days per week (180 minutes) throughout an academic year.

Example #1: Public Elementary School #1 has a fourth grade Japanese Foreign Language program with the same 20 students attending on Monday, Tuesday, Wednesday and Thursday for 50 minutes each day. These 20 students may be counted in the School and Student Data Report.

Example #2: Public Elementary School #2 has a first and second grade Spanish/English Dual Immersion program with Spanish instruction in the morning and English in the afternoon 5 days per week. These 40 students may be counted in the School and Student Data Report.

Example #3: Public Elementary School #3 has a Transitional Bilingual Education program in the first through fifth grades. Since the primary purpose of the program is to transition students to English, the transitional program is not considered a foreign language program. These students would not be counted in the School and Student Data Report.

Q. What is considered an academic year?

A. An academic year is the period of time denoting the beginning and ending dates for school academic purposes.

Q. What is not a foreign language?

A. The Secretary does not award incentive payments for programs that teach Native American languages, Native Hawaiian, other Pacific Island languages or Native Alaskan languages. In addition, the program is not intended to support the teaching of English.

Q. May an applicant include an elementary school with a grant under the Foreign Language Assistance Program (FLAP) in the student data report for the Foreign Language Incentive Program (FLIP)?

A. An elementary school, with a foreign language program comparable to teaching at least 45 minutes a day for not fewer than 4 days per week, may have a FLAP grant and also include these students in the data report for the FLIP.

Q. May a public elementary school with an afternoon or Saturday foreign language program be included in the student data report?

A. The purpose of the Foreign Language Incentive Program is to award incentive payments to public elementary schools that provide students attending the school with a foreign language program designed to lead to communicative competency. Therefore, to be eligible for consideration, an afternoon and Saturday program must be: (1) Provided by the public elementary school, (2) attended by students from the school, (3) comparable to a program that provides at least 45 minutes of instruction per day for not fewer than 4 days per week, and (4) conducted throughout an academic year.

Q. How does the applicant determine that the public elementary school is providing the eligible program?

A. The following are recommended guidelines:

Is the public school legally responsible for the program?

Is the school paying the teacher's salary?

Q. May a foreign language program planned for the 2002-2003 academic year be included in the student data report?

A. Data in the student data report must only include students in eligible programs during the 2001-2002 academic year.

Q. How is the incentive payment distributed?

A. The incentive payment is distributed one time.

Q. What is the amount of the incentive payment for each eligible elementary school?

A. The incentive amount is computed according to a formula based on the number of students in a school's eligible program compared to the total number of students nationwide in eligible programs that apply.

Q. What information may be helpful to an applicant in preparing the narrative section of the Foreign Language Incentive Program application?

A. An applicant must provide information that establishes the eligibility of the foreign language program at each of the elementary schools included in the application, and must specifically describe and document the 2001-2002 program methodology and time schedule. Applicants may wish to consider the following questions as a guide to preparing the 5-page application narrative:

• Which foreign language is taught in the program?

• Is the program of communicative competency well described including (1) the methodology and (2) the specific minutes of instruction per day, the days per week, and information regarding the length of the program during the academic year?

• Is it clear that the program was in effect during the 2001-2002 school year?

• How did the school identify the program participants?

• Is the information conveyed clearly in a chart or graph?

Q. Must an applicant include in the narrative section of the application how the school will use the foreign language incentive payment if the Department awards a payment?

A. The narrative section does not need to provide information regarding the use of the incentive payment. However, it is anticipated that the foreign language incentive payment will support foreign language programs.

Q. How does an applicant comply with Executive Order 12372, the Intergovernmental Review of Federal Programs, item #10 of the Application for Federal Education Assistance (ED 424)?

A. Applicants must first review the State Single Point of Contact (SPOC) list available at http://www.whitehouse.gov/omb/grants/spoc.html. If a State contact is included in the list, the applicant must contact the SPOC to inquire about the State's process under Executive Order 12372. If the State requests the application for review, a copy of the cover letter sent to the State contact must be submitted with the application package and Item #10 checked Yes with the date included. If the program is not covered by the Executive order, or the State has not selected the program for review, Item #10 must be checked No and the reason checked.

Q. Who should sign as the Authorized Representative on the Application for Federal Assistance and other forms?

A. It is recommended that the Superintendent of Schools sign as the Authorized Representative.

Q. How does an applicant access the statutory provision authorizing FLIP (section 5494 of the Elementary and Secondary Education Act)?

A. Applicants may access section 5494 via Internet: http://www.ed.gov/offices/OELA/flipstatute.html

BILLING CODE 4000-01-P

[FR Doc. 02-10654 Filed 4-29-02; 8:45 am]

BILLING CODE 4000-01-C